DEPARTMENT OF TRANSPORTATION

Federal Aviation Administration

14 CFR Part 91

[Docket No. FAA-2007-29305; Amdt. No. 91-314]

RIN 2120-AI92

Automatic Dependent Surveillance-Broadcast (ADS-B) Out Performance Requirements To Support Air Traffic Control (ATC) Service; OMB Approval of Information Collection

AGENCY: Federal Aviation Administration, DOT.

ACTION: Final rule; OMB approval of information collection.

SUMMARY: This document notifies the public of the Office of Management and Budget's (OMB's) approval of the information collection requirement contained in the FAA's final rule, “Automatic Dependent Surveillance-Broadcast (ADS-B) Out Performance Requirements To Support Air Traffic Control (ATC) Service,” which was published on May 28, 2010.

DATES: The effective date of the final rule published on May 28, 2010, is August 11, 2010. However, because it contained new information collection requirements, compliance with the information collection provisions contained in § 91.225 was not required until they were approved by OMB. This document announces that OMB approval was received on July 29, 2010.

FOR FURTHER INFORMATION CONTACT: For technical questions concerning this document, contact Vincent Capezzuto, Surveillance and Broadcast Services, AJE-6, Air Traffic Organization, Federal Aviation Administration, 800 Independence Avenue, SW., Washington, DC 20591; telephone (202) 385-8637; e-mail vincent.capezzuto@faa.gov.

For legal questions concerning this document, contact Lorelei Peter, Office of the Chief Counsel, AGC-220, Federal Aviation Administration, 800 Independence Avenue, SW., Washington, DC 20591; telephone 202-267-3134; e-mail lorelei.peter@faa.gov.

SUPPLEMENTARY INFORMATION: On May 28, 2010, the final rule, “Automatic Dependent Surveillance-Broadcast (ADS-B) Out Performance Requirements To Support Air Traffic Control (ATC) Service,” was published in the Federal Register (75 FR 30160). In that rule, the FAA amended its regulations by adding equipage requirements and performance standards for Automatic Dependent Surveillance-Broadcast (ADS-B) Out avionics on aircraft operating in Classes A, B, and C airspace, as well as certain other specified classes of airspace within the U.S. National Airspace System (NAS).

In the DATES section of the final rule, the FAA noted that affected parties were not required to comply with the new information collection requirements in § 91.225 until OMB approved the FAA's request to collect the information. The regulation requires persons operating in the specified airspace to equip with Automatic Dependent Surveillance-Broadcast (ADS-B) Out avionics that continuously transmits aircraft information via automation for use in providing air traffic surveillance services. That information collection requirement had not been approved by OMB at the time of publication.

In accordance with the Paperwork Reduction Act, the FAA submitted a copy of the information collection requirements to OMB for its review. OMB approved the collection on July 29, 2010, and assigned the information collection OMB Control Number 2120-0728, which expires on July 31, 2013.

This document is being published to inform affected parties of the approval, and to announce that as of July 29, 2010, affected parties are required to comply with the information collection requirements in § 91.225.

Issued in Washington, DC, on August 6, 2010.
Pamela Hamilton-Powell,
Director, Office of Rulemaking.

[FR Doc. 2010-19809 Filed 8-10-10; 8:45 am]

BILLING CODE 4910-13-P